ENVIRONMENTAL PROTECTION AGENCY

[EPA-HQ-OECA-2005-0020; FRL-8200-7]

Agency Information Collection Activities; Submission to OMB for Review and Approval; Comment Request; NESHAP for Benzene Waste Operations (Renewal), EPA ICR Number 1541.08, OMB Control Number 2060-0183

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the collection and the estimated burden and cost.

DATES: Additional comments may be submitted on or before August 21, 2006.

ADDRESSES: Submit your comments, referencing docket ID number EPA-HQ-OECA-2005-0020, to (1) EPA online using www.regulations.gov (our preferred method); or by e-mail to docket.oeca@epa.gov; or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments. Any additional comments on this ICR should be submitted to EPA and OMB within 30 days of this notice.

EPA has established a public docket for this ICR under docket ID number EPA-HQ-OECA-2005-0020, which is available for public viewing online at www.regulations.gov, or via in-person viewing at the Enforcement and Compliance Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at www.regulations.gov, to submit or view public comments, access the index listing of the contents of the docket, and to access those documents in the docket that are available electronically. Once in the system, select “docket search,” then key in the docket ID number identified above. Please note that EPA's policy is that public comments, whether submitted electronically, or in paper, will be made available for public viewing at www.regulations.gov, as EPA receives them and without change, unless the comment contains copyrighted material, CBI, or other information whose public disclosure is restricted by statute. For further information about the electronic docket, go to www.regulations.gov.

Title: NESHAP for Benzene Waste Operations (Renewal).

ICR Numbers: EPA ICR Number 1541.08, OMB Control Number 2060-0183.

ICR Status: This ICR is scheduled to expire on August 31, 2006. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register, or by other appropriate means, such as on the related collection instrument or form, if applicable. The display of OMB control numbers in certain EPA regulations is consolidated in 40 CFR part 9.

Abstract: The National Emission Standards for Hazardous Air Pollutants (NESHAP) for the regulations published at 40 CFR part 61, subpart FF were proposed on September 14, 1989, and promulgated on March 7, 1990. These regulations apply to facilities that generate waste containing benzene, such as chemical manufacturing plants, coke by-product recovery plants, petroleum refineries, and those owners and operators of hazardous waste treatment, storage, and disposal facilities (TSDF) which receive wastes from the above facilities, commencing construction, modification or reconstruction after the date of the proposal. This information is being collected to assure compliance with 40 CFR part 61, subpart FF.

The monitoring, recordkeeping, and reporting requirements outlined in these rules are similar to those required for other NESHAP regulations. Consistent with the NESHAP General Provisions (40 CFR part 63, subpart A), respondents are required to submit initial notifications, conduct performance tests, and submit quarterly or semiannual reports, as applicable. They also are required to maintain records of applicability determinations; performance test results; exceedances; periods of startup, shutdown, or malfunction; monitoring records, and all other information needed to determine compliance with the applicable standards. An owner, or operator subject to the provisions of this part shall maintain a file of these measurements, and retain the file for at least five years following the date of such measurements, maintenance reports, and records. Records and reports must be retained for a total of two years. The files may be maintained on microfilm, on a computer, or floppy disks, on magnetic tape disks, or on microfiche. All reports are sent to the delegated state or local authority. In the event that there is no such delegated authority, the reports are sent directly to the appropriate United States Environmental Protection Agency (EPA) regional office.

Burden Statement: The annual public reporting and recordkeeping burden for this collection of information is estimated to average 71 hours per response. Burden means the total time, effort, or financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit, or otherwise disclose the information.

Respondents/Affected Entities: Owners or operators of benzene waste operations.

Estimated Number of Respondents: 234.

Frequency of Response: On occasion, semiannually, quarterly and initially.

Estimated Total Annual Hour Burden: 16,626.

Estimated Total Annual Capital and Operations and Maintenance Costs: $0.00.

Changes in the Estimates: There are no changes in the burden calculation for the renewal of this ICR since we have assumed that there has been no change in the industry burden since the last ICR was approved.

Dated: July 12, 2006.
Sara Hisel-McCoy,
Acting Director, Collection Strategies Division.

[FR Doc. E6-11524 Filed 7-19-06; 8:45 am]

BILLING CODE 6560-50-P